DEPARTMENT OF HEALTH AND HUMAN SERVICES

Centers for Disease Control and Prevention

Disease, Disability, and Injury Prevention and Control Special Emphasis Panel: Development and Testing of a Coal Mine Safehouse, Program Announcement (PA) 04-038

In accordance with section 10(a)(2) of the Federal Advisory Committee Act (Pub. L. 92-463), the Centers for Disease Control and Prevention (CDC) announces the following meeting:

Name: Disease, Disability, and Injury Prevention and Control Special Emphasis Panel (SEP): Development and Testing of a Coal Mine Safehouse, PA 04-038.

Time And Date: 1 p.m.-3 p.m., October 20, 2006 (Closed).

Place: Teleconference.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of research grant applications in response to Development and Testing of a Coal Mine Safehouse, Program Announcement PA 04-038.

For More Information Contact: George Bokosh, Designated Federal Official, 626 Cochrans Mill Road, Pittsburgh, PA 15236, telephone (412) 386-6465.

The Director, Management Analysis and Services Office, has been delegated the authority to sign Federal Register notices pertaining to announcements of meetings and other committee management activities, for both CDC and the Agency for Toxic Substances and Disease Registry.

Dated: September 21, 2006.
Alvin Hall,
Director, Management Analysis and Services Office, Centers for Disease Control and Prevention.

[FR Doc. E6-15957 Filed 9-27-06; 8:45 am]

BILLING CODE 4163-18-P